DEPARTMENT OF AGRICULTURE

Forest Service

Buckhorn Access Project, Okanogan and Wenatchee National Forests, Okanogan County, WA

AGENCY: Forest Service, USDA.

ACTION: Notice of intent to prepare an Environmental Impact Statement.

SUMMARY: Notice is hereby given that the USDA, Forest Service will prepare an Environmental Impact Statement (EIS) for a proposal by Crown Resources Corporation (Crown) to access their private lands and unpatented mining claims on National Forest System lands, and to utilize their unpatented mining claims for mining related facilities. The purpose of the EIS will be to evaluate a range of reasonable alternatives for this proposal and take public comment on the analysis. The proposed project will comply with the direction in the December 1989 Okanogan National Forest Land and Resource Management Plan (Forest Plan), as amended. The Forest Plan provides the overall guidance for management of National Forest System lands included in this proposal.

Scoping on this project was initiated in the Spring of 2005. After preparation and circulation of a preliminary Environmental Assessment on the project, the Forest Service has decided to prepare an Environmental Impact Statement, as provided for in the Council on Environmental Quality's Regulations for Implementing the Procedural Provisions of the National Environmental Policy Act (40 CFR 1501.4(c)). The Forest Service is giving notice of this analysis so that interested and affected individuals are aware of how they may participate and contribute to the final decision.

DATES: Comments concerning the scope of this analysis must be received by August 7, 2006. Individuals who responded to the scoping done for this project in April 2005 need not resubmit those comments. The scope of the project has not changed since the initial Spring 2005 scoping, although some details have changed and will be displayed in the Draft EIS. The Draft EIS is expected to be filed in August 2006. The Final EIS is expected to be filed in November 2006.

ADDRESSES: Submit written comments and suggestions concerning the scope of the analysis to Jan Flatten, Forest Environmental Coordinator, 1240 Second Avenue South, Okanogan, WA 98840, phone: (509) 826-3277.

FOR FURTHER INFORMATION CONTACT: Direct questions about the proposed action and EIS to Jan Flatten, Forest Environmental Coordinator, 1240 Second Avenue South, Okanogan, Washington 98840, phone: (509) 826-3277 or Phil Christy, Minerals Program Manager, Tonasket Ranger District, 1 West Winesap, Tonasket, WA 98855, phone: (509) 486-5137.

SUPPLEMENTARY INFORMATION:

Purpose and Need for Action

The purpose and need for the project is to respond to Crown's request for access to their private lands and unpatented mining claims, and to utilize their unpatented mining claims for mining related facilities reasonably incident to mining activities taking place on private lands as required by law, while minimizing impacts to National Forest System lands and considering impacts to residents living along National Forest rights-of-way.

Proposed Action

The Forest Supervisor for the Okanogan and Wenatchee National Forests proposes to approve Crown Resource Corporation's Plan of Operations to reconstruct 5.25 miles of the Forest Roads 3550 and 3550-125; construct 1.5 miles of new access road off the end of Forest Road 3550-125 to the lower portal of the mine; and to build a fence, a pipe line, a treated-water infiltration area and access roads, monitoring wells, and underground utility conduits (power line, telephone line) on National Forest System lands and rights-of-way. The Proponent would be permitted to utilize these roads daily to haul ore and supplies to and from the private land inholding once construction is complete. Trucks, averaging approximately 55 round trips per day (50 ore trucks and 5 supply trucks), would haul along the route, although average daily trips would increase just before and after spring breakup, if hauling is not feasible or permitted. Employee access, 24 hours/day, would be allowed on the haul route, Forest Roads 3575-120, 3575, 3575-100, and 3575-150. Only the haul route, Forest Roads 3575-120 and 3575-140 to the water tower, access roads to the infiltration gallery and pipeline (3575-120, 3575-125, 3575-127, and 3575-142), and to monitoring wells and surface water minoring sites may be snowplowed. In addition, the following structures would be constructed to compensate for impacts to wildlife and range operations from this proposal and the Buckhorn Mountain Project currently being planned on private lands:

• A corral in lower Marias Creek,

• A well servicing three cattle troughs in mid-Marias Creek,

• A water augmentation line from the infiltration gallery pipeline to the Roosevelt Adit and to a new water trough in upper Marias Creek,

• Culvert replacements to allow for all aquatic life passage, and

• Water guzzlers in the headwaters of Ethel and South Fork Bolster Creeks.

The Pontiac Ridge/Cow Camp access route; Forest Road 3575-120, and Forest Road 3575-140 would be used during the approximate 3 months it will take to construct and reconstruct the haul route. After that time, most construction traffic to the mine site on private lands would switch to the haul route. Implementation is expected to occur in winter on spring of 2007.

The proposed action would require amendments to four Forest Plan standards and guidelines, two relating to road density, one relating to designation of an open route through deer winter range, and one relating to percent fines in fish bearing creeks. Road density standards would b exceeded in MA14-18 and 14-19, the Marias Creek road would be designated as an open route where it passes through deer winter range in MA-14 and MA-26, and fine sediment would be increased where it is currently above Forest Plan standards. In addition, the three small parcels left of MA14-19 after land patenting would be combined with their adjacent management areas.

Possible Alternatives

Crown's land on Buckhorn Mountain can be accessed by three existing road systems:

• Marias Creek Road 3550 with powerline buried on the right-of-way.

• Nicholson Creek 3575 with powerline buried in the right-of-way except that the shorter route up the 3575-100 road would be used for the powerline.

• Cow Camp Road 3575-120 with powerline buried on the right-of-way.

All of these routes will be fully analyzed in the EIS. No other sites will be analyzed for the infiltration gallery because the location proposed by Crown is the only feasible location.

Lead Agency

The USDA Forest Service will be the lead agency in accordance with 40 CFR 1501.5(b), and is responsible for preparation of the EIS.

Nature of the Decision To Be Made

The Forest Supervisor for the Okanogan and Wenatchee National Forests must decide whether or not to approve the Proponent's Plan of Operations and road use permit as submitted, or approve a Plan of Operations and road use permit for another route or with additional mitigation measures and monitoring items. Additionally, the Forest Supervisor must decide whether to grant a special use permit to the Ferry County PUD and other providers for utility access. The Forest Supervisor will consider both the impacts as a result of project activities on National Forest Systems lands and rights-of-way, and cumulative impacts off of National Forest System lands, particularly to home owners along National Forest System rights-of-way, in choosing the preferred alternative. The Forest Supervisor must also decide whether or not to amend the Okanogan National Forest Land and Resource Management Plan to implement the project.

Scoping Process

Initial scoping on this project was completed Spring of 2005, and a preliminary Environmental Assessment was sent to the public for comment in December 2005. Public participation will continue to be especially important at several points during the analysis. The participation agencies are seeking information, comments, and assistance from Federal, State, local agencies, Native American Tribe and other individuals and organizations who may be interested in or affected by the proposed project. Input submitted during initial scoping, comments received on the preliminary Environmental Assessment and input during this scoping period will be used in preparation of the Draft EIS. The scoping process includes:

• Identifying potential issues.

• Identifying major issues to be analyzed in depth and identify those that are not significant and can be eliminated from detailed study.

• Exploring alternatives to the proposed action.

• Identifying potentail environmental effects of this project.

• Determining potential cooperating agencies and task assignments.

• Notifying interested members of the public of opportunities to participate through personal contacts or written comment.

Issues

A number of issues were identified in the preliminary Environmental Assessment including effects of fence construction, effects of road construction and reconstruction, effects of heavy mine traffic, effects to wildlife, spread of noxious weeds, cumulative impacts with the mine and borrow site, dust suppression and snow removal chemical on water, effects on residents and Colville Tribal members, and effects on water quality and quantity from the infiltration gallery.

Permits or Licenses Required

Upon approval of this proposal, a final plan of operations, road use permit and special use permits for utility companies would be prepared.

Comment Opportunity

This notice re-initiates the scoping process, which guides development of the EIS. The Forest Service is seeking public and agency comment on the proposed action to determine if any additional issues arise. Additional issues may lead either to other alternatives, or additional mitigation measures and monitoring requirements.

Early Notice of Importance of Public Participation in Subsequent Environmental Review

A draft EIS will be prepared for comment. Copies will be distributed to interested and affected agencies, organizations, and members of the public for their review and comment. The comment period on the draft EIS will be 45 days from the date the Environmental Protection Agency publishes the notice of availability in the Federal Register.

The Forest Service believes, at this early stage, it is important to give reviewers notice of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after the completion of the final EIS may be waived or dismissed by the courts. City of Angoon v. Hodel, 803 F.2d. 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the participating agencies at a time when it can meaningfully consider them and respond to them in the final EIS.

To assist the participating agencies in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

In the final EIS, the Forest Service is required to respond to comments and responses received during the comment period that pertain to the environmental consequences discussed in the draft EIS and applicable laws, regulations, and policies considered in making a decision regarding the proposal.

Comments received including the names and addresses of those who comment, will be considered part of the public record on this proposal and will be available for public inspection.

The Forest Supervisor for the Okanogan and Wenatchee National Forest will be the responsible official for this EIS and it's Record of Decision. As the responsible official, the Forest Supervisor will document the decision and reasons for the decision in the Record of Decision. That decision will be subject to Forest Service Appeal Regulations (36 CFR Part 215).

Dated: July 10, 2006.
James L. Boynton,
Forest Supervisor.

[FR Doc. 06-6316 Filed 7-18-06; 8:45 am]

BILLING CODE 3410-11-M